DEPARTMENT OF LABOR

Office of the Worker's Compensation Programs

[OMB Control No. 1240-0007]

Proposed Extension of Information Collection; Claim for Medical Reimbursement Form (OWCP-915)

AGENCY: Office of Workers' Compensation (OWCP), Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, OWCP is soliciting comments on the information collection for Claim for Medical Reimbursement (OWCP-915).

DATES: All comments must be received on or before April 12, 2024.

ADDRESSES: You may submit comment as follows. Please note that late, untimely filed comments will not be considered.

Written/Paper Submissions: Submit written/paper submissions in the following way:

• Mail/Hand Delivery: Mail or visit DOL-OWCP, Office of Workers' Compensation Programs, U.S. Department of Labor, 200 Constitution Ave. NW, Room S-3215, Washington, DC 20210.

• OWCP will post your comment as well as any attachments, except for information submitted and marked as confidential, in the docket at https://www.regulations.gov.

FOR FURTHER INFORMATION CONTACT: Anjanette Suggs, Office of Workers' Compensation Programs, OWCP, at suggs.anjanette@dol.gov (email); (202) 354-9660.

SUPPLEMENTARY INFORMATION:

I. Background

The Office of Workers' Compensation Programs (OWCP) administers the Federal Employees' Compensation Act (FECA), 5 U.S.C. 8101 et seq., the Black Lung Benefits Act (BLBA), 30 U.S.C. 901 et seq., and the Energy Employees Occupational Illness Compensation Program Act of 2000 (EEOICPA), 42 U.S.C. 7384 et seq. All three statutes require OWCP to pay for covered medical treatment that is provided to beneficiaries, and to reimburse beneficiaries for any out-of-pocket covered medical expenses they have paid. Form OWCP-915, Claim for Medical Reimbursement, is used for this purpose and collects the necessary beneficiary and medical provider data in a standard format. Beneficiaries must also attach billing information prepared by the medical provider (Form OWCP-1500 for professional medical services, Form OWCP-04 for institutional providers and hospitals, or a paper bill for medications dispensed in the physician's office. The hour and cost burdens to collect the billing information from medical providers in the required attachments to Form OWCP-915 are accounted for in OMB Nos. 1240-0019, 1240-0044, and 1240-0050. This is the same billing information a medical provider reports when it bills OWCP directly. Regulations implementing the FECA, BLBA and EEOICPA programs require the collection of information that is needed to determine if reimbursement claims submitted by beneficiaries can be paid.

II. Desired Focus of Comments

OWCP is soliciting comments concerning the proposed information collection (ICR) titled, “Claim for Medical Reimbursement” (OWCP-915). OWCP/DFELHWC is particularly interested in comments that:

• Evaluate whether the collection of information is necessary for the proper performance of the functions of the Agency, including whether the information has practical utility;

• Evaluate the accuracy of OWCP's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP located at 200 Constitution Avenue NW, Room S-3215, Washington, DC 20210. Questions about the information collection requirements may be directed to the person listed in the FOR FURTHER INFORMATION CONTACT section of this notice.

III. Current Actions

This information collection request concerns Claim for Reimbursement OWCP-915. OWCP has updated the data with respect to the number of respondents, responses, burden hours, and burden costs supporting this information collection request from the previous information collection request.

Type of Review: Extension, with change, of a currently approved collection.

Agency: Office of Workers' Compensation Programs, OWCP.

OMB Number: 1240-0007.

Affected Public: Individuals or households.

Number of Respondents: 18,023.

Frequency: Annually.

Number of Responses: 7.

Annual Burden Hours: 4 hours.

OWCP-915, Claim for Reimbursement

Comments submitted in response to this notice will be summarized in the request for Office of Management and Budget approval of the proposed information collection request; they will become a matter of public record and will be available at https://www.reginfo.gov.

Anjanette Suggs,
Certifying Officer.

[FR Doc. 2024-02745 Filed 2-9-24; 8:45 am]

BILLING CODE 4510-CR-P